ENVIRONMENTAL PROTECTION AGENCY

40 CFR Part 52

[OH140-1a; FRL-6991-9]

Approval and Promulgation of Implementation Plans; OH

AGENCY: Environmental Protection Agency (EPA).

ACTION: Direct final rule.

SUMMARY: The EPA is approving revisions to sulfur dioxide (SO2) emissions regulations for the Lubrizol Corporation (Lubrizol). This facility is located in Lake County, Ohio. The Ohio Environmental Protection Agency (Ohio EPA) submitted Director's Final Findings and Orders (Orders) for the Lubrizol facility on November 9, 2000. These Orders are revisions to the Ohio State Implementation Plan (SIP). The revisions are the adjustment of six short-term emissions limits, the addition of an annual emissions limit, and the addition of a continuous emission rate monitoring system (CERMS) requirement for the Lubrizol facility. Three short-term emissions limits are relaxed and three short-term are tightened. There is no increase in the total potential short-term SO2 emissions.

DATES: This rule is effective on August 13, 2001, unless the EPA receives relevant adverse written comments by July 12, 2001. If adverse comment is received, the EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of Ohio's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What is the EPA approving?

II. Limit changes from the current rules.

III. Analysis of supporting materials provided by Ohio.

IV. What are the environmental effects of these actions?

V. EPA rulemaking actions.

VI. Administrative requirements.

I. What Is the EPA Approving?

The EPA is approving revisions to the sulfur dioxide emissions regulations for the Lubrizol facility in Lake County, Ohio. Ohio EPA submitted the revised regulation on November 9, 2000, as an amendment to its SIP.

The revisions include the relaxation of three short-term SO2 emissions limits and the tightening of three short-term limits. There is no increase in the total potential short-term SO2 emissions. An annual SO2 emissions limit is established. Also, a continuous emission rate monitoring system is required.

II. Limit Changes From the Current Rules

Ohio has revised six short-term emissions limits at Lubrizol's Painesville facility. The limit change for source L (Source ID P011) is from 12.6 to 2.4 pounds of sulfur dioxide per hour (lb/hr). Source M (P012) changes from 15.0 to 160.0 lb/hr, source N (P013) changes from 23.5 to 25.0 lb/hr, source O changes from 14.5 to 10.0 lb/hr, source W (P022) changes from 163.5 to 20.0 lb/hr, and the limit for source AC (P030) changes from 18.4 to 30.0 lb/hr. The total emissions limit of the six sources remains at approximately 247.4 lb/hr. All six sources vent through incinerators to a common stack.

An annual sulfur dioxide emissions limit of 100 tons per year (TPY) is established. Previously, the facility's potential to emit sulfur dioxide was 1084 TPY. A continuous emission rate monitoring system (CERMS) is required at the facility. The CERMS measures SO2 in the common stack. Lubrizol will keep records of the CERMS data including the instantaneous (one-minute), hourly, and rolling three-hour average SO2 concentration.

III. Analysis of Supporting Materials Provided by Ohio

The general criteria used by the EPA to evaluate such intra-facility emissions trades, or “bubbles,” under the Clean Air Act and applicable regulations are set out in the EPA's, December 4, 1986 Emissions Trading Policy Statement (ETPS) (see 51 FR 43814). The short-term emissions trade at Lubrizol's Painesville facility qualifies as a Level I trade. This trade meets the six criteria in the ETPS. All six processes involved in this trade of short-term limits vent through a common stack. The maximum SO2 emissions limit from the common stack remains at approximately 247.4 lb/hr. Following the Level I trade guidance, it is assumed that this emissions trade will produce “ambient equivalence”, which is an equal effect on area air quality.

The Ohio EPA Orders also add an annual SO2 limit of 100 TPY for the facility and require a continuous emission rate monitoring system. Without an annual limit, Lubrizol has the potential to emit 1084 TPY of sulfur dioxide. These requirements provide additional protection of human health and the environment.

IV. What Are the Environmental Effects of These Actions?

Sulfur dioxide causes breathing difficulties and aggravation of existing cardiovascular disease. It is also a precursor of acid rain and fine particulate matter formation. Sulfur dioxide causes the loss of chloroform leading to vegetation damage. These SIP revisions should not result in an increase in short-term SO2 emissions from the Lubrizol facility. The addition of an annual limit enhances air quality protection.

V. EPA Rulemaking Actions

The EPA is approving, though direct final rulemaking, revisions to the SO2 emissions regulations for the Lubrizol Corporation facility in Lake County, Ohio.

The SIP revisions include the relaxation of three short-term SO2 emissions limits and the tightening of three short-term limits. There is no increase in the total potential short-term SO2 emissions. It remains at approximately 247.4 lb/hr. An annual SO2 emissions limit of 100 TPY is established. Also, a continuous emission rate monitoring system is required. The CERMS records the instantaneous (one-minute), hourly, and rolling three-hour average SO2 concentration. Lubrizol will keep its records for five years.

We are publishing this action without a prior proposal because we view these as noncontroversial revisions and anticipate no adverse comments. However, in the “Proposed Rules” section of today's Federal Register, we are publishing a separate document that will serve as the proposal to approve the SIP revision if adverse comments are filed. This rule will be effective on August 13, 2001, without further notice unless we receive relevant adverse written comment by July 12, 2001. If the EPA receives adverse comment, we will publish a final rule informing the public that this rule will not take effect. We will address all public comments in a subsequent final rule based on the proposed rule. The EPA does not intend to institute a second comment period on this action. Any parties interested in commenting on these actions must do so at this time.

VI. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective August 13, 2001 unless EPA receives adverse written comments by July 12, 2001.

Under section 307(b)(1) of the Clean Air Act, petitions for judicial review of this action must be filed in the United States Court of Appeals for the appropriate circuit by August 13, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Sulfur oxides.

Dated: May 18, 2001.
David A. Ullrich,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart KK—Ohio

2. Section 52.1870 is amended by adding paragraph (c)(124) to read as follows:

§ 52.1870 Identification of plan.

* * * * *

(c) * * *

(124) On November 9, 2000, Ohio submitted Director's Final Findings and Orders revising sulfur dioxide emissions regulations for the Lubrizol Corporation facility in Lake County, Ohio. The revisions include the adjustment of six short-term emissions limits, the addition of an annual emissions limit, and the addition of a continuous emissions monitoring system (CEMS). These state implementation plan revisions do not increase allowable sulfur dioxide emissions.

(i) Incorporated by reference.

Emissions limits for the Lubrizol Corporation facility in Lake County contained in Director's Final Findings and Orders. The orders were effective on November 2, 2000 and entered in the Director's Journal on November 9, 2000.

[FR Doc. 01-14608 Filed 6-11-01; 8:45 am]

BILLING CODE 6560-50-P